DEPARTMENT OF THE INTERIOR

Bureau of Ocean Energy Management

[Docket No. BOEM-2024-0055]

Notice of Availability of a Final Environmental Impact Statement for SouthCoast Wind Energy LLC's Proposed SouthCoast Wind Energy Project Offshore Massachusetts and Rhode Island

AGENCY: Bureau of Ocean Energy Management, Interior.

ACTION: Notice of availability; final environmental impact statement.

SUMMARY: The Bureau of Ocean Energy Management (BOEM) announces the availability of the final environmental impact statement (FEIS) for SouthCoast Wind Energy LLC's (SouthCoast Wind) construction and operations plan (COP) for its proposed SouthCoast Wind Project (Project) offshore Massachusetts and Rhode Island. The FEIS analyzes the potential environmental impacts of the Project as described in the COP (the proposed action) and the alternatives to the proposed action, including the no action alternative. The FEIS will inform BOEM's decision whether to approve, approve with conditions, or disapprove the COP.

ADDRESSES: The FEIS and detailed information about the Project, including the COP, can be found on BOEM's website at: https://www.boem.gov/renewable-energy/state-activities/southcoast-wind-formerly-mayflower-wind.

FOR FURTHER INFORMATION CONTACT: Genevieve Brune, BOEM Office of Renewable Energy Programs, 45600 Woodland Road, Sterling, Virginia 20166, (703) 787-1553 or genevieve.brune@boem.gov.

SUPPLEMENTARY INFORMATION:

Proposed Action: SouthCoast Wind seeks approval to construct, operate, and maintain a wind energy facility and its associated export cables on the Outer Continental Shelf (OCS) offshore Massachusetts and Rhode Island. The Project would be developed within the range of design parameters outlined in the SouthCoast Wind COP, subject to the applicable mitigation measures.

The Project would be located about 26 nautical miles (nm) (48 kilometers) south of Martha's Vineyard and 20 nm (37 kilometers) south of Nantucket in the area defined in BOEM's renewable energy lease number OCS-A 0521 (Lease Area). The Lease Area covers approximately 127,388 acres. The Project would be developed in two parts or projects: Project 1 refers to the development in the northern portion of the Lease Area and associated interconnection, and Project 2 refers to the development in the southern portion of the Lease Area and associated interconnection. The Project would consist of up to 149 positions in the Lease Area to be occupied by up to 147 wind turbine generators and up to five offshore substation platforms (OSPs). The 149 positions will conform to a 1 nm x 1 nm grid layout with an east-west and north-south orientation, which lessees agreed would apply across all the Massachusetts and Rhode Island wind energy areas. The Project would include one preferred export cable corridor making landfall and interconnecting to the ISO New England Inc. (ISO-NE) grid at Brayton Point, in Somerset, Massachusetts. This preferred export cable corridor to Brayton Point would be used for both Project 1 and Project 2. The Project would also include one variant export cable corridor, which, if used, would make landfall and interconnect to the ISO-NE grid in the town of Falmouth, Massachusetts. In the event that technical, logistical, grid interconnection, or other unforeseen challenges arise during the design and engineering phase that prevent Project 2 from making interconnection at Brayton Point, Project 2 would use the Falmouth variant export cable corridor.

Alternatives: BOEM considered 17 alternatives when preparing the draft environmental impact statement and carried forward six alternatives for further analysis in the FEIS. These six alternatives include five action alternatives and the no action alternative. Eleven alternatives were not analyzed in detail, which are presented in FEIS chapter 2, because they did not meet the purpose and need for the proposed action or did not meet screening criteria. The screening criteria included consistency with law and regulations, technical and economic feasibility, environmental impacts, and geographic considerations.

Availability of the FEIS: The FEIS, SouthCoast Wind COP, and associated information are available on BOEM's website at: https://www.boem.gov/renewable-energy/state-activities/southcoast-wind-formerly-mayflower-wind. BOEM has distributed digital copies of the FEIS to all parties listed in FEIS Appendix M. If you require a flash drive or paper copy, BOEM will provide one upon request, as long as supplies are available. You may request a flash drive or paper copy of the FEIS by contacting Genevieve Brune at (703) 787-1553 or genevieve.brune@boem.gov.

Cooperating Agencies: The following Federal agencies and State governmental entities participated as cooperating agencies under the National Environmental Policy Act (NEPA) in the preparation of the FEIS: Bureau of Safety and Environmental Enforcement; U.S. Environmental Protection Agency; National Marine Fisheries Service; U.S. Army Corps of Engineers; U.S. Coast Guard; New York Department of State; Massachusetts Office of Coastal Zone Management; and the Rhode Island Coastal Resources Management Council.

Authority: 42 U.S.C. 4231 et seq. (NEPA, as amended) and 40 CFR 1506.6.

Karen Baker,
Chief, Office of Renewable Energy Programs, Bureau of Ocean Energy Management.

[FR Doc. 2024-26657 Filed 11-14-24; 8:45 am]

BILLING CODE 4340-98-P